Title 3—

The President

Proclamation 8691 of July 1, 2011

40th Anniversary of the 26th Amendment

By the President of the United States of America

A Proclamation

Forty years ago, the 26th Amendment to the United States Constitution took effect, lowering the universal voting age in America from 21 years to 18 years. Millions of young Americans were extended the right to vote, empowering more young people than ever before to help shape our country. On this anniversary, we remember the commitment of all those who fought for the right to vote and celebrate the contributions of young adults to our Nation.

The right to vote has been secured by generations of leaders over our history, from the women’s groups of the early 20th century to the civil rights activists of the 1960s. For young people, the movement to lower America’s voting age took years of hard work and tough advocacy to make the dream a reality. Yet, once proposed in Congress in 1971, the 26th Amendment was ratified in the shortest time span of any Constitutional Amendment in American history.

In the midst of the Vietnam War, our Nation bestowed upon our young people the ability to change the status quo and entrusted them with a new voice in government. Today, young adults across America continue to exercise this enormous responsibility of citizenship. Countless young people are involved in the political process, dedicated to ensuring their voices are heard.

Ideas from young Americans are important to my Administration, and they will help shape the future of our Nation. We are committed to supporting and developing young leaders from all beliefs and backgrounds, and from urban and rural communities alike. This year, I launched “100 Youth Roundtables,” an initiative to facilitate substantive dialogue between my Administration and young Americans. We hosted a Young Entrepreneur Summit to listen to budding entrepreneurs and better assess their needs. And this summer, we are beginning a “How to Make Change” series for young Americans from all walks of life who are seeking change in their communities and our world.

Young adults have been a driving force for change in the last century, bringing new ideas and high hopes to our national dialogue. Today, we remember the efforts of those who fought for their seat at the table, and we encourage coming generations to claim their place in our democracy.

NOW, THEREFORE, I, BARACK OBAMA, President of the United States of America, by virtue of the authority vested in me by the Constitution and the laws of the United States, do hereby proclaim July 1, 2011, as the 40th Anniversary of the 26th Amendment. I call upon all Americans to participate in ceremonies and activities that honor young Americans, and those who have fought for freedom and justice in our country.

IN WITNESS WHEREOF, I have hereunto set my hand this first day of July, in the year of our Lord two thousand eleven, and of the Independence of the United States of America the two hundred and thirty-fifth.

[FR Doc. 2011-17287

Filed 7-7-11; 8:45 am]

Billing code 3195-W1-P